COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must Be Received on or Before: August 4, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Battery, Nonrechargeable/6135-00-826-4798. (Remaining Requirement for DSCR).

NPA: Eastern Carolina Vocational Center, Inc., Greenville, North Carolina.

Contract Activity: Defense Supply Center—Richmond, Richmond, Virginia.

Product/NSN: Battery, Nonrechargeable/6135-00-900-2139. (Remaining Requirement for DSCR).

NPA: Eastern Carolina Vocational Center, Inc., Greenville, North Carolina.

Contract Activity: Defense Supply Center—Richmond, Richmond, Virginia.

Product/NSN: Battery, Nonrechargeable/6135-00-985-7845. (Total Requirement for DSCR).

NPA: Eastern Carolina Vocational Center, Inc., Greenville, North Carolina.

Contract Activity: Defense Supply Center—Richmond, Richmond, Virginia.

Product/NSN: Paper, Toilet Tissue, 48 Ct., 2-ply/8540-00-NIB-0043.

NPA: Outlook-Nebraska, Incorporated, Fremont, Nebraska.

Contract Activity: Office Supplies & Paper Products Commodity Center, New York, New York.

Product/NSN: Board, Assembly, Jack, Ground/2510-00-741-7585.

NPA: Pennyroyal Regional MH-MR Board, Inc., Hopkinsville, Kentucky.

Contract Activity: Defense Supply Center—Columbus, Columbus, Ohio.

Services

Service Type/Location: Custodial Service/Basewide, Schriever AFB, Colorado.

NPA: Professional Contract Services, Inc., Austin, Texas.

Contract Activity: USAF, 50 CONS/LGCZW, Schriever AFB, Colorado.

Service Type/Location: Janitorial/Custodial/Naval Air Station, Buildings 180 and 349 Whidbey Island, Oak Harbor, Washington.

NPA: New Leaf, Inc., Oak Harbor, Washington.

Contract Activity: Naval Facilities Engineering Command, Oak Harbor, Washington.

Deletions

I certify that the following action will not have a significant impact on a substantial number of small entities.

The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products have been proposed for deletion from the Procurement List:

Products

Product/NSN: Harness Assembly/1660-00-066-2078.

NPA: Human Technologies Corporation, Utica, New York.

Contract Activity: Defense Supply Center—Richmond, Richmond, Virginia.

Product/NSN: Insert, Foam, Laminated/8135-00-NSH-0002.

NPA: None currently authorized.

Contract Activity: Bureau of the Mint, Department of the Treasury, Washington, DC.

Sheryl D. Kennerly,
Director, Information Management.

[FR Doc. 02-16843 Filed 7-3-02; 8:45 am]

BILLING CODE 6353-01-P